ENVIRONMENTAL PROTECTION AGENCY

[ER-FRL-6694-9]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070303, ERP No. D-FRA-K53012-CA, Bay Area to Central Valley High-Speed Train (HST) Project, Provide a Reliable High-Speed Electrified Train System to Link Bay Area Cities to the Central Valley, Sacramento, and South California.

Summary: EPA expressed environmental concerns about impacts to aquatic resources, growth-related impacts, and cumulative impacts. Rating EC2.

EIS No. 20070399, ERP No. D-FTA-E40816-FL, Tier 1 Programmatic—Jacksonville Rapid Transit System (RTS), Improvement to Transportation in Four Primary Transit Corridors Radiating from Downtown Jacksonville, Duval County, FL.

Summary: EPA expressed environmental concerns about impacts to air quality, floodplains, wetlands, and low-income/minority communities, and requested additional information and mitigation measures. Rating EC1.

EIS No. 20070426, ERP No. D-FHW-K40265-CA, CA-76 Corridor Project, Transportation Improvements from Melrose to South Mission Highway, San Diego County, CA.

Summary: EPA expressed environmental concerns about indirect and cumulative impacts to biological and aquatic resources as well as the relationship of the proposed project to future expansion of State Route 76 to the east. Rating EC2.

EIS No. 20070454, ERP No. D-BIA-J65498-WY, Riverton Dome Coal Bed Natural Gas (CBNG) and Conventional Gas Development Project, Construction of Well Pads, Roads, Pipelines, and Production Facilities, Wind River Indian Reservation (WRIR), Fremont County, WY.

Summary: EPA expressed environmental concerns about impacts to air quality from particulate matter and recommended the analysis incorporate more recent particulate matter background concentration data. EPA also expressed concerns about environmental justice, cultural resources, soil resources and water quality. Rating EC2.

EIS No. 20070463, ERP No. D-CGD-E03017-FL, Calypso Liquefied Natural Gas (LNG) Deepwater Port License Application, Proposes to Own, Construct and Operate a Deepwater Port, Outer Continental Shelf (OCS) in the OCS NG 17-06 (Bahamas) Lease Area, 8 to 10 miles off the East Coast of Florida to the Northeast of Port Everglades, FL.

Summary: EPA expressed environmental concerns about the air impacts from the proposed LNG regasification port, and the potential impact to marine bottom communities from construction of the pipelines, and requested additional information about the analysis of air impacts and the planned construction methods for pipelines, and consideration of mitigation for both impacts. Rating EC2.

EIS No. 20070482, ERP No. D-FHW-J40180-UT, UT-108 Transportation Improvement Project, To Improve Local and Regional Mobility from UT-108 between UT-127 (Antelope Drive) to UT-126 (1900 West) Located in Syracuse, West Point and Clinton in Dave County, and Roy and West Haven in Weber County, UT.

Summary: EPA expressed environmental concerns about potential air impacts to sensitive receptors. In addition, EPA suggests the FEIS evaluate the indirect effects of the increased rate of growth caused by new highway construction. Rating EC2.

EIS No. 20070483, ERP No. DS-FHW-E40716-TN, Kirby Parkway Project, Construction from Macon Road to Walnut Grove Road, U.S. Army COE section 401 and 404 Permits, Shelby County, TN.

Summary: EPA expressed environmental concerns about potential impacts to water quality and aquatic habitat due to construction and future operation of the project. Rating EC1.

Final EISs

EIS No. 20070405, ERP No. F-AFS-J61111-00, Yellowstone and Grand Teton National Parks and the John D. Rockefeller, Jr. Memorial Parkway, Winter Use Plan, To Provide a Framework for Managing Winter Use Activities, Implementation, Fremont County, ID, Gallatin and Park Counties, MT Park and Teton Counties, WY.

Summary: EPA acknowledges the improvements gained in the Parks' winter environment compared to historic conditions. However, EPA continues to have environmental concerns about adverse impacts from snowmobile use on air quality and visitor experiences.

EIS No. 20070442, ERP No. F-FHW-K40260-CA, Interstate 5/Cosumnes River Boulevard Interchange Project, Extension of Cosumnes River Boulevard from Franklin Boulevard to Freeport Boulevard with an Interchange at Interstate 5, South of the Pocket/Meadowview Road Interchange and North of the Laguna Boulevard Interchange, City of Sacramento, Sacramento County, CA.

Summary: EPA does not object to the proposed project.

EIS No. 20070477, ERP No. F-MMS-A09833-00, PROGRAMMATIC—Alternative Energy Development and Production and Alternate Use of Facilities on the Outer Continental Shelf, Implementation, Atlantic, Gulf of Mexico, Pacific and Alaska.

Summary: EPA's previous concerns have been resolved; therefore, EPA does not object to the proposed action.

EIS No. 20070505, ERP No. F-WPA-K08032-CA, Trinity Public Utilities District Direct Interconnection Project, Construct and Operate a 16-mile Long 60-Kilovolt Power Transmission Facilities (DOE/EIS-0389), Trinity County, CA.

Summary: No formal comment letter was sent to the preparing agency.

EIS No. 20070506, ERP No. F-AFS-K65303-CA, Phoenix Project, Proposes to Use a Combination of Contract and Forest Service Crew to Treat Poor Forest Health and High Fire Hazard Conditions, Develop a Network Defensible Fuel Profile Zones (DFPZs), Sierraville Ranger District, Tahoe National Forest, Sierra and Nevada Counties, CA.

Summary: EPA does not object to the proposed action.

EIS No. 20070509, ERP No. F-FHW-E40807-SC, Interstate 73 Southern Project, Construction from I-95 to the Myrtle Beach Region, Funding, NPDES Permit, U.S. Coast Guard Permit, U.S. Army COE section 404 Permit, Dillon, Horry and Marion Counties, SC.

Summary: EPA continues to have environmental concerns about wetland impacts.

Dated: January 8, 2008.
Robert W. Hargrove,
Director, NEPA Compliance Division, Office of Federal Activities.

[FR Doc. E8-357 Filed 1-10-08; 8:45 am]

BILLING CODE 6560-50-P